FEDERAL COMMUNICATIONS COMMISSION

[FR ID 17503]

Privacy Act of 1974; System of Records

AGENCY: Federal Communications Commission.

ACTION: Notice of a new system of records.

SUMMARY: The Federal Communications Commission (FCC or Commission or Agency) is establishing a new system of records, FCC/WCB-3, Emergency Broadband Benefit Program, subject to the Privacy Act of 1974, as amended. This action is necessary to meet the requirements of the Privacy Act to publish in the Federal Register notice of the existence and character of records maintained by the agency. The Emergency Broadband Benefit Program (or “Emergency Broadband”) provides discounts for broadband internet access service (BIAS) to qualifying households. A household may qualify for Emergency Broadband if an individual in the household qualifies for the free and reduced lunch program, receives a Pell Grant, was recently laid off or furloughed, qualifies for the Lifeline program, or qualifies for a low-income or COVID-19 discount program offered by internet service providers. The Emergency Broadband program will be administered by the Universal Service Administrative Company (USAC) under the direction of the Commission and, by delegation, of the Commission's Wireline Competition Bureau (WCB). This system of records contains information about individual Emergency Broadband participants and providers' enrollment representatives.

DATES: Written comments are due on or before March 29, 2021. This action (including the routine uses) will become effective on March 29, 2021 unless comments are received that require a contrary determination.

ADDRESSES: Send comments to Margaret Drake, Federal Communications Commission (FCC), 45 L Street NE, Washington, DC 20554, or to privacy@fcc.gov.

FOR FURTHER INFORMATION CONTACT: Margaret Drake, (202) 418-1707, or privacy@fcc.gov.

SUPPLEMENTARY INFORMATION: In December 2020, Congress passed and the President signed the Emergency Broadband Service During Emergency Period Related to COVID-19, establishing the Emergency Broadband Benefit Program to temporarily provide eligible households a discount on the cost of internet service and a subsidy for low-cost devices such as computers and tablets. Households can qualify for the benefit if an individual in the household: qualifies for the free and reduced lunch program, receives a Pell Grant, was recently laid off or furloughed, qualifies for the Lifeline program, or qualifies for a low-income or COVID-19 discount program offered by internet service providers. The Emergency Broadband program is in effect until six months after the date on which the Secretary of Health and Human Services determines that a public health emergency no longer exists as a result of COVID-19. USAC will administer this program on behalf of the Commission.

SYSTEM NAME AND NUMBER:

FCC/WCB-3, Emergency Broadband Benefit Program.

SECURITY CLASSIFICATION:

No information in the system is classified.

SYSTEM LOCATION(S): Universal Service Administrative Company (USAC), 700 12th Street NW, Suite 900, Washington, DC 20005; and

Wireline Competition Bureau (WCB), Federal Communications Commission (FCC), 45 L Street NE, Washington, DC 20554.

SYSTEM MANAGER(S) AND ADDRESS(ES):

USAC administers the Emergency Broadband Benefit Program for the FCC.

Address inquiries to the Universal Service Administrative Company (USAC), 700 12th Street NW, Suite 900, Washington, DC 20005; or

Wireline Competition Bureau (WCB), 45 L Street NE, Washington, DC 20554.

AUTHORITY FOR MAINTENANCE OF THE SYSTEM:

47 U.S.C. 151-154, 201-205, 214, 403; Consolidated Appropriations Act, 2021, Public Law 116-260 § 904. 47 CFR Sections 54.400, 54.401, 54.404, 54.407, 54.409, 54.410, 54.417, 54.419, 54.420.

PURPOSE(S):

This system of records is maintained for use in determining whether a member of a household meets the eligibility criteria to qualify for a discount on the cost of internet service and a subsidy for low-cost devices such as computers and tablets; ensuring benefits are not duplicated; dispute resolution regarding eligibility for the Emergency Broadband Benefit Program; customer surveys; audit; verification of a provider's representative identity; and statistical studies.

CATEGORIES OF INDIVIDUALS COVERED BY THE SYSTEM:

The categories of individuals in this system include, but are not limited to, those individuals who have applied for the Emergency Broadband program; are currently receiving benefits; are individuals who enable another individual in their household to qualify for benefits; are minors whose status qualifies a household for benefits; are individuals who have received benefits under the Lifeline Program; or are individuals acting on behalf of an participating provider as enrollment representatives who have enrolled or verified the eligibility of a household in the Emergency Broadband program, are certifying claims, or are seeking reimbursement for providing eligible services.

CATEGORIES OF RECORDS IN THE SYSTEM:

The categories of records in the system include an applicant's first and last name; residential address; information on whether the individual resides on Tribal lands; information on whether the address is temporary and/or descriptive and whether it includes coordinates; mailing address (if different); address based on geographic coordinates (geolocation); internet Protocol (IP) address; date of birth; last four digits of social security number ¹ or Tribal identification number; telephone number; full name of the qualifying person (if different from the individual applicant); qualifying person's date of birth; the last four digits of the qualifying person's social security number or their Tribal identification number; information on whether the qualifying person resides on Tribal lands; means of qualification for the Emergency Broadband program (i.e., participation in Lifeline, receipt of a Pell Grant, etc.); documents demonstrating eligibility; individual contact information; Emergency Broadband Benefit Program subscriber identification number; Emergency Broadband Benefit Program application number; security question; answer to security question; user name; password; agent identification information (if an agent is assisting in completing the application); individual applicant's eligibility certifications; individual applicant's signature and date of application; Emergency Broadband service initiation date and termination date; amount of discount received; and amount of device benefit received.

For participating provider enrollment representatives who register to access the National Verifier or National Lifeline Accountability Database the following information may be collected: first and last name, date of birth, the last four digits of his or her social security number, email address, residential address, or other identity proof documentation.

RECORD SOURCE CATEGORIES:

Participating providers and their registered enrollment representatives; individuals applying on behalf of a household; schools; Lifeline databases; and State, Federal, Local and Tribal Government databases; and third-party identity verifiers.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows. In each of these cases, the FCC will determine whether disclosure of the records is compatible with the purpose(s) for which the records were collected:

1. FCC/USAC Program Management—To FCC and USAC employees to conduct official duties associated with the management, operation, and oversight of the Emergency Broadband Benefit Program, NLAD, National Verifier, Lifeline Claims System, and Representative Accountability Database, as directed by the Commission.

2. Third Party Contractors—To an employee of a third-party contractor engaged by USAC or a participating provider to, among other things, develop the Emergency Broadband Eligibility Database, conduct the eligibility verification or recertification process, run call center and email support operations, and assist in dispute resolution.

3. Business Process Outsourcing (BPO) Entity—To an employee of the BPO or an employee of a third-party contractor engaged by the BPO engaged by USAC to perform and review eligibility evaluations where the National Verifier conducts such processes for purposes of performing manual eligibility verification (when needed), conducting the eligibility verification process or recertification process, run call center and email support operations; and to assist in dispute resolution.

4. System Integrator (SI)—To an employee of the SI engaged by USAC as needed to develop, test, and operate the database system and network.

5. State, Local, and Tribal Agencies, and Other Authorized Government Entities—To designated State, Local, and Tribal agencies, and other authorized governmental entities that share data with USAC or the FCC for purposes of eligibility verification; providing enrollment and other selected reports; and, comparing information contained in NLAD and Emergency Broadband Benefit Program eligibility.

6. Social Service Agencies and Other Approved Third Parties—To social service agencies and other third parties that have been approved by USAC for purposes of assisting individuals in applying for the Emergency Broadband Benefit Program.

7. Federal Agencies—To other Federal agencies for the development of and operation under data sharing agreements with USAC or the FCC to enable the National Verifier to perform eligibility verification or recertification for individuals applying for Emergency Broadband support.

8. Tribal Nations—To Tribal Nations to perform eligibility verification for individuals applying for the Emergency Broadband Benefit Program and to provide enrollment and other selected reports, and for purposes of assisting individuals in applying for and recertifying for Lifeline support.

9. Service Providers—To broadband providers, and their registered representatives, in order to confirm an individual's eligibility, complete benefit transfer requests, facilitate the provision of service, complete de-enrollments, allow for the provider to receive reimbursement through the Emergency Broadband Benefit Program, to provide information to the relevant provider about a registered enrollment representative whose account has been disabled for cause, and provide enrollment and other selected reports.

10. Other Federal Program Eligibility—To disclose an individual's Emergency Broadband participation status to a Federal agency or contractor when a federal program administered by the agency or its contractor uses qualification for Emergency Broadband as an eligibility criterion.

11. FCC Enforcement Actions—When a record in this system involves an informal complaint filed alleging a violation of FCC rules and regulations by an applicant, licensee, certified or regulated entity, or an unlicensed person or entity, the complaint may be provided to the alleged violator for a response. Where a complainant in filing his or her complaint explicitly requests confidentiality of his or her name from public disclosure, the Commission will endeavor to protect such information from public disclosure. Complaints that contain requests for confidentiality may be dismissed if the Commission determines that the request impedes the Commission's ability to investigate and/or resolve the complaint.

12. Congressional Inquiries—To provide information to a Congressional office from the record of an individual in response to an inquiry from that Congressional office made at the request of that individual.

13. Government-Wide Program Management and Oversight—To the Department of Justice (DOJ) to obtain that department's advice regarding disclosure obligations under the Freedom of Information Act (FOIA); or the Office of Management and Budget (OMB) to obtain that office's advice regarding obligations under the Privacy Act.

14. Law Enforcement and Investigation—To disclose pertinent information to appropriate Federal, State, or local agencies, authorities, and officials responsible for investigating, prosecuting, enforcing, or implementing a statute, rule, regulation, or order, where the FCC becomes aware of an indication of a violation or potential violation of a civil or criminal statute, law, regulation, or order, including but not limited to notifying the Internal Revenue Service (IRS) to investigate income eligibility verification.

15. Adjudication and Litigation—To the Department of Justice (DOJ), in a proceeding before a court, or other administrative or adjudicative body before which the FCC is authorized to appear, when (a) the FCC or any component thereof; (b) any employee of the FCC in his or her official capacity; (c) any employee of the FCC in his or her individual capacity where the DOJ or the FCC has agreed to represent the employee; or (d) the United States is a party to litigation or has an interest in such litigation, and the use of such records by DOJ or the FCC is deemed by the FCC to be relevant and necessary to the litigation.

16. Breach Notification—To appropriate agencies, entities (including USAC), and persons when: (a) The Commission suspects or has confirmed that there has been a breach of the system of records; (b) the Commission has determined that as a result of the suspected or confirmed compromise there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

17. Assistance to Federal Agencies and Entities—To another Federal agency or Federal entity or USAC, when the Commission determines that information from this system is reasonably necessary to assist the recipient agency or entity in: (a) Responding to a suspected or confirmed breach or (b) preventing, minimizing, or remedying the risk of harm to individuals, the recipient agency or entity (including its information systems, program, and operations), the Federal Government, or national security, resulting from a suspected or confirmed breach.

18. Computer Matching Program Disclosure—To Federal, State, and local agencies, and USAC, their employees, and agents for the purpose of conducting computer matching programs as regulated by the Privacy Act of 1974, as amended (5 U.S.C. 552a).

19. Prevention of Fraud, Waste, and Abuse Disclosure—To Federal agencies, non-Federal entities, their employees, and agents (including contractors, their agents or employees; employees or contractors of the agents or designated agents); or contractors, their employees or agents with whom the FCC or USAC has a contract, service agreement, cooperative agreement, or computer matching agreement for the purpose of: (1) detection, prevention, and recovery of improper payments; (2) detection and prevention of fraud, waste, and abuse in Federal programs administered by a Federal agency or non-Federal entity; (3) detection of fraud, waste, and abuse by individuals in their operations and programs, but only to the extent that the information shared is necessary and relevant to verify pre-award and prepayment requirements prior to the release of Federal funds, prevent and recover improper payments for services rendered under programs of the FCC or of those Federal agencies and non-Federal entities to which the FCC or USAC provides information under this routine use.

20. Contract Services, Grants, or Cooperative Agreements—To disclose information to FCC or USAC contractors, grantees, or volunteers who have been engaged to assist the FCC or USAC in the performance of a contract service, grant, cooperative agreement, or other activity related to this system of records and who need to have access to the records in order to perform their activity.

POLICIES AND PRACTICES FOR STORAGE OF RECORDS:

The information pertaining to the Emergency Broadband Benefit Program includes electronic records, files, data, paper documents, records, and may include audio recordings of calls. Records are maintained in secure, limited access areas. Physical entry by unauthorized persons is restricted through use of locks, passwords, and other security measures. Both USAC and its contractors will jointly manage the electronic data housed at USAC and at the contractors' locations. Paper documents and other physical records (i.e., tapes, compact discs, etc.) will be kept in locked, controlled access areas. Paper documents submitted by applicants to the Emergency Broadband Benefit Program and provider representatives will be digitized, and paper copies will be immediately destroyed.

POLICIES AND PRACTICES FOR RETRIEVAL OF RECORDS:

Information in the Emergency Broadband Benefit Program system of records may be retrieved by various identifiers, including but not limited to the individual's name, last four digits of the Social Security Number (SSN), Tribal identification number, date of birth, phone number, residential address, and Emergency Broadband subscriber identification number.

POLICIES AND PRACTICES FOR RETENTION AND DISPOSAL OF RECORDS:

The National Archives and Records Administration (NARA) has not established a records schedule for the information in the Emergency Broadband Benefit Program system of records. Consequently, until NARA has approved a records schedule, USAC will maintain all information in the Emergency Broadband Benefit Program system of records will be maintained in accordance with NARA records management directives.

ADMINSTRATIVE, TECHNICAL, AND PHYSICAL SAFEGUARDS:

The electronic records, data, and files are maintained in the FCC and the USAC computer network databases, which are protected by the FCC's and USAC's privacy safeguards, a comprehensive and dynamic set of IT safety and security protocols and features that are designed to meet all Federal IT privacy standards, including those required by the National Institute of Standard and Technology (NIST) and the Federal Information Security Management System (FISMA). In addition, access to the electronic files is restricted to authorized USAC and contractors' supervisors and staff and to the FCC's supervisors and staff in WCB and to the IT contractors who maintain these computer databases. Other FCC employees and contractors may be granted access only on a “need-to-know” basis. In addition, data in the network servers for both USAC and its contractors will be routinely backed-up. The servers will be stored in secured environments to protect the data.

The paper documents and files are maintained in file cabinets in USAC and the contractors' office suites. The file cabinets are locked when not in use and at the end of the business day. Access to these files is restricted to authorized USAC and its contractors' staffs.

RECORDS ACCESS PROCEDURES:

Individuals wishing to request access to and/or amendment of records about themselves should follow the Notification Procedure below.

CONTESTING RECORD PROCEDURES:

Individuals wishing to request an amendment of records about themselves should follow the Notification Procedure below.

NOTIFICATION PROCEDURE:

Individuals wishing to determine whether this system of records contains information about themselves may do so by writing Federal Communications Commission (FCC), Washington, DC 20554, Privacy@fcc.gov. Individuals requesting access must also comply with the FCC's Privacy Act regulations regarding verification of identity to gain access to the records (47 CFR Part 0, Subpart E).

EXEMPTIONS CLAIMED FOR THE SYSTEM:

None.

HISTORY:

This is a new system of records.

Federal Communications Commission.
Marlene Dortch,
Secretary.

[FR Doc. 2021-03928 Filed 2-24-21; 8:45 am]

BILLING CODE 6712-01-P